DEPARTMENT OF THE TREASURY

Departmental Offices; Proposed Collections; Comment Requests

ACTION: Notice and request for comments.

SUMMARY: The Department of the Treasury, as part of its continuing effort to reduce paperwork burdens, invites the general public and other Federal agencies to comment on the revision of an information collection that is to be proposed for approval by the Office of Management and Budget. The Office of International Affairs of the Department of the Treasury is soliciting comments concerning Treasury International Capital Form S, Purchases and Sales of Long-term Securities by Foreigners. The Current Actions below clarify the instructions and improve the column titles on the Form S.

DATES: Written comments should be received on or before December 7, 2010 to be assured of consideration.

ADDRESSES: Direct all written comments to Dwight Wolkow, International Portfolio Investment Data Systems, Department of the Treasury, Room 5422, 1500 Pennsylvania Avenue, NW., Washington, DC 20220. In view of possible delays in mail delivery, please also notify Mr. Wolkow by e-mail (comments2TIC@do.treas.gov), FAX (202-622-2009) or telephone (202-622-1276).

FOR FURTHER INFORMATION CONTACT: Copies of the proposed forms and instructions are available on the Treasury's TIC Forms webpage, http://www.treas.gov/tic/forms.html. Requests for additional information should be directed to Mr. Wolkow.

SUPPLEMENTARY INFORMATION: Title: Treasury International Capital Form S, Purchases and Sales of Long-term Securities by Foreigners.

OMB Control Number: 1505-0001.

Abstract: Form S is part of the Treasury International Capital (TIC) reporting system, which is required by law (22 U.S.C. 286f; 22 U.S.C. 3103; E.O. 10033; 31 CFR 128), and is designed to collect timely information on international portfolio capital movements. Form S is a monthly report used to cover transactions in long-term marketable securities undertaken directly with foreigners by banks, other depository institutions, brokers, dealers, underwriting groups, funds and other individuals and institutions. This information will be used by the U.S. Government in the formulation of international financial and monetary policies and for the preparation of the U.S. balance of payments accounts and the U.S. international investment position.

Current Actions: (a) In the title for columns 7 and 8, the word STOCKS will be replaced by U.S. EQUITY; and in the title for columns 11 and 12, the words FOREIGN STOCKS will be replaced by FOREIGN EQUITY. The purpose of this action is to clarify the type of data collected in columns 7, 8, 11 and 12 of the form. There is no change in the reporting requirements; for example the column-by-column instructions for those four columns already use the term “equity”. This action also makes the terms on the Form S more consistent with the terms on other TIC forms that report data on securities, including the annual reports. This action will not affect the reporting burden of the Form S; (b) In the title of columns 5 and 6, “U.S.” will be inserted at the beginning so the title reads “U.S. CORPORATE AND OTHER BONDS”. This action will clarify the type of data collected and will neither change the reporting requirements nor affect the reporting burden; (c) The unnecessary word “foreign” will be deleted from the titles of columns 7 and 8 in the Memorandum section on the last page of the form. That action will bring those two titles into conformity with the other column-pairs in the form; (d) The instructions will be revised by expanding and clarifying the old section called Determining Residency. The revised section is called “Reporting the Location of Foreign Counterparties” in the General Instructions. The revised language is consistent with the same guidance in other TIC reports; (e) The instructions will be revised by expanding and clarifying the section on REPORTING OF FUND SHARES (in the Reportable Items section of the General Instructions). The revised language includes examples and is consistent with the same guidance in other TIC reports; (f) The instructions (the Reportable Items section of the General Instructions) will be revised in accordance with (a) above so that any instruction to record data in the columns for “stocks” is changed to an instruction to record data in the column for “equities”; (g) The instructions (the Other Statistical Reports section of the Introduction) will be revised by adding a paragraph on the proposed new SLT form; (h) The instructions will be revised so that the sections in the Introduction and the General Instructions are arranged to be more consistent with the organization of the instructions of other TIC reports; (i) These changes will be effective beginning with the reports as of March 31, 2011.

Type of Review: Revision of a currently approved collection.

Affected Public: Business or other for-profit organizations. Form S (1505-0001)

Estimated Number of Respondents: 254.

Estimated Average Time per Respondent: Six hours per respondent per filing. This estimate includes 0.4 hours for the Current Actions proposed above. The estimated average time per respondent varies from 10.8 hours for the approximately 30 major reporters to 5.4 hours for the other reporters.

Estimated Total Annual Burden Hours: 18,400 hours, based on 12 reporting periods per year.

Request for Comments: Comments submitted in response to this notice will be summarized and/or included in the request for Office of Management and Budget approval. All comments will become a matter of public record. The public is invited to submit written comments concerning: (a) Whether Form S is necessary for the proper performance of the functions of the Office, including whether the information will have practical uses; (b) the accuracy of the above estimate of the burdens; (c) ways to enhance the quality, usefulness and clarity of the information to be collected; (d) ways to minimize the reporting and/or record keeping burdens on respondents, including the use of information technologies to automate the collection of the data; and (e) estimates of capital or start-up costs of operation, maintenance and purchase of services to provide information.

Dwight Wolkow,
Administrator, International Portfolio Investment Data Systems.

[FR Doc. 2010-25415 Filed 10-7-10; 8:45 am]

BILLING CODE 4810-25-P